DEPARTMENT OF THE INTERIOR

Bureau of Ocean Energy Management

[Docket No. BOEM-2021-0047]

Notice of Additional Public Scoping and Name Change for the Vineyard Wind South Project Offshore Massachusetts Environmental Impact Statement

AGENCY: Bureau of Ocean Energy Management (BOEM), Interior.

ACTION: Notice of additional public scoping; request for comments.

SUMMARY: On June 30, 2021, BOEM published the “Notice of Intent to Prepare an Environmental Impact Statement for the Vineyard Wind South Project Offshore Massachusetts” in the Federal Register. The Notice of Intent (NOI) announced that BOEM will prepare an environmental impact statement (EIS) to inform its review of a construction and operations plan (COP) submitted by Vineyard Wind, LLC (Vineyard Wind). This notice provides updated project information related to potential changes in cable routing and announces an additional EIS public scoping comment period to account for the new information. Detailed information about the proposed wind energy facilities, including an updated COP, can be found on BOEM's website at: www.BOEM.gov/New-England-Wind. Also, this notice formally announces that the project's name has changed from Vineyard Wind South to New England Wind.

DATES: Comments are due to BOEM no later than December 22, 2021.

ADDRESSES: Written comments can be submitted in any of the following ways:

• Delivered by mail or delivery service, enclosed in an envelope labeled “NEW ENGLAND WIND COP EIS” and addressed to Program Manager, Office of Renewable Energy, Bureau of Ocean Energy Management, 45600 Woodland Road, Sterling, Virginia 20166; or

• Through the regulations.gov web portal: Navigate to http://www.regulations.gov and search for “Docket No. BOEM-2021-0047.” Select this document from the search results and, once on the document page, click on the “Comment” button below the document title. Enter your information and comment, then scroll to bottom of the web page and click “Submit Comment.”

FOR FURTHER INFORMATION CONTACT: Stephanie Fiori, BOEM Office of Environmental Programs, 45600 Woodland Road, Sterling, Virginia 20166, (703) 787-1832, or stephanie.fiori@boem.gov.

SUPPLEMENTARY INFORMATION: On June 30, 2021, BOEM published the “Notice of Intent to Prepare an Environmental Impact Statement for the Vineyard Wind South Project Offshore Massachusetts” in the Federal Register (86 FR 34782). The NOI announced that BOEM will prepare an EIS as part of its review of a COP submitted by Vineyard Wind and provided project information. This notice provides revised project information and announces an additional EIS public scoping comment process to account for the new information.

Vineyard Wind intends to install all Phase 2 offshore export cables within the offshore export cable corridor (OECC) through the Muskeget Channel to reach landfall sites in the Town of Barnstable, Massachusetts. However, Vineyard Wind has identified two variations of the Phase 2 OECC. These variations are necessary to provide Vineyard Wind with commercial flexibility should technical, logistical, grid interconnection, or other unforeseen issues arise during project review that would preclude or limit placement of Phase 2 export cables through the initial OECC in vicinity of the Muskeget Channel. The two variations of the Phase 2 OECC are as follows:

(1) The Western Muskeget Variant is an OECC variant that was included in the Vineyard Wind 1 project and includes the installation of one or two Phase 2 export cables in the western Muskeget Channel.

(2) The South Coast Variant diverges from the initial OECC at the northern boundary of Lease Area OCS-A 0501 and travels west-northwest to the state waters boundary near Buzzard's Bay, Massachusetts, through state waters, and onshore to a substation. The South Coast Variant includes an offshore routing envelope that indicates a region within Buzzards Bay where the Phase 2 offshore export cables may be installed before making landfall. It also includes an onshore routing envelope that indicates a region within southwest Massachusetts where the Phase 2 onshore cables may be installed. The location of a potential substation in southwest Massachusetts has not been identified.

Public Participation

This notice commences an additional public scoping process to identify issues and potential alternatives related to the two newly proposed variations of the New England Wind Phase 2 OECC. Throughout the scoping process, Federal agencies, Tribal, State, and local governments, and the general public have the opportunity to help BOEM identify significant resources and issues, impact-producing factors, reasonable alternatives (e.g., size, geographic, seasonal, or other restrictions on construction and siting of facilities and activities), and potential mitigation measures to be analyzed in the EIS, as well as to provide additional information. A pre-recorded presentation, that highlights the new information, can be found at https://www.boem.gov/new-england-wind. For information on how to submit comments, see the ADDRESSES section above.

BOEM does not consider anonymous comments. Please include your name and address as part of your comment. BOEM makes all comments, including the names, addresses, and other personally identifiable information included in the comment, available for public review online. Individuals can request that BOEM withhold their names, addresses, or other personally identifiable information included in their comment from the public record; however, BOEM cannot guarantee that it will be able to do so. For BOEM to withhold from disclosure your personally identifiable information, you must identify any information contained in your comments that, if released, would constitute a clearly unwarranted invasion of your privacy. You also must briefly describe any possible harmful consequences of the disclosure of information, such as embarrassment, injury, or other harm.

Additionally, under section 304 of National Historic Preservation Act (NHPA), BOEM is required, after consultation with the Secretary of the Interior, to withhold the location, character, or ownership of historic resources if it determines that disclosure may, among other things, cause a significant invasion of privacy, risk harm to the historic resources, or impede the use of a traditional religious site by practitioners. Tribal entities and other interested parties should designate information that they wish to be held as confidential and provide the reasons why BOEM should do so.

All submissions from organizations or businesses and from individuals identifying themselves as representatives or officials of organizations or businesses will be made available for public inspection in their entirety.

Request for Identification of Potential Alternatives, Information, and Analyses Relevant to the Two Variations of the Phase 2 OECC

BOEM requests data, comments, views, information, analysis, alternatives, or suggestions from the public; affected Federal, State, Tribal, and local governments, agencies, and offices; the scientific community; industry; or any other interested party on the following topics with particular focus on the new project information related to the two variations of the Phase 2 OECC:

1. Potential effects that the two variations of the Phase 2 OECC could have on biological resources, including bats, birds, coastal fauna, finfish, invertebrates, essential fish habitat, marine mammals, and sea turtles.

2. Potential effects that the two variations of the Phase 2 OECC could have on physical resources including air quality, water quality, and wetlands and other waters of the United States.

3. Potential effects that the two variations of the Phase 2 OECC could have on socioeconomic and cultural resources, including commercial fisheries and for-hire recreational fishing, demographics, employment, economics, environmental justice, land use and coastal infrastructure, navigation and vessel traffic, other uses (marine minerals, military use, aviation), recreation and tourism, and scenic and visual resources.

4. Other possible reasonable alternatives to the Proposed Action related to the two variations of the Phase 2 OECC that BOEM should consider, including additional or alternative avoidance, minimization, and mitigation measures.

5. As part of its compliance with NHPA section 106 and its implementing regulations (36 CFR part 800), BOEM seeks comment and input from the public and consulting parties regarding the identification of historic properties within the Proposed Action's area of potential effects, the potential effects on those historic properties from the activities proposed in the COP, and any information that supports identification of historic properties under NHPA. BOEM also solicits proposed measures to avoid, minimize, or mitigate any adverse effects on historic properties related to the two variations of the Phase 2 OECC. BOEM's effects analysis for historic properties will be available for public and consulting party comment in the draft EIS.

6. Information on other current or planned activities in, or in the vicinity of, the two variations of the Phase 2 OECC and the possible impacts those activities and variations may have on each other.

7. Other information relevant to the two variations of the Phase 2 OECC and their impacts on the human environment.

To promote informed decision-making, comments should be as specific as possible and should provide as much detail as necessary to meaningfully and fully inform BOEM of the commenter's position. Comments should explain why the issues raised are important to the consideration of potential environmental impacts and alternatives relevant to the two variations of the Phase 2 OECC, as well as to the economic, employment, and other impacts affecting the quality of the human environment.

The draft EIS will include a summary of all alternatives, information, and analyses submitted during the scoping process for consideration by BOEM and the cooperating agencies.

Authority: 42 U.S.C. 4321 et seq. and 40 CFR 1501.9.

William Yancey Brown,
Chief Environmental Officer, Bureau of Ocean Energy Management.

[FR Doc. 2021-25320 Filed 11-19-21; 8:45 am]

BILLING CODE 4310-MR-P